DEPARTMENT OF THE INTERIOR

National Park Service

[NPS-WASO-NAGPRA-NPS0039023; PPWOCRADN0-PCU00RP14.R50000]

Notice of Inventory Completion: University of Virginia, Charlottesville, VA

AGENCY: National Park Service, Interior.

ACTION: Notice.

SUMMARY: In accordance with the Native American Graves Protection and Repatriation Act (NAGPRA), the University of Virginia has completed an inventory of human remains and associated funerary objects and has determined that there is a cultural affiliation between the human remains and associated funerary objects and Indian Tribes or Native Hawaiian organizations in this notice.

DATES: Repatriation of the human remains and associated funerary objects in this notice may occur on or after December 16, 2024.

ADDRESSES: Meg Kennedy, University of Virginia, 170 McCormick Road, Charlottesville, VA 22812, telephone (434) 924-9425, email mmkennedy@virginia.edu.

SUPPLEMENTARY INFORMATION: This notice is published as part of the National Park Service's administrative responsibilities under NAGPRA. The determinations in this notice are the sole responsibility of the University of Virginia, and additional information on the determinations in this notice, including the results of consultation, can be found in its inventory or related records. The National Park Service is not responsible for the determinations in this notice.

Abstract of Information Available

Human remains representing, at least, five individuals have been identified. The one lot of associated funerary objects are charcoal from a burial context, pottery, copper, stone, and walnut. Human remains representing, at minimum, five individuals were removed from several archaeological sites by University of Virginia faculty and students during the twentieth century. Charlton Gilmore (Gilly) Holland, M.D., a neuropsychiatrist at the University of Virginia who taught Virginia archaeology in the department of sociology for ten years, actively excavated sites in Augusta, Bath, Highland, Rockingham and Rockbridge Counties in Virginia the mid-twentieth century. Some of this work was done in conjunction with the Smithsonian Institution.

On an unknown date(s), Holland removed “bones scattered through sod” from Virginia Department of Historic Resources (DHR) site number 44AU12 in Augusta County, Virginia. The bones are believed to be human.

On an unknown date(s) in 1962, Holland removed human remains and associated funerary objects from the Hirsch Mound (DHR site number 44BA35) in Bath County, Virginia. The material includes human remains, charcoal from a burial context and associated funerary objects including pottery, copper, stone and walnut. From his notes: “bones and charcoal from lowest level in Square A,” “charcoal from 24”1' south of stake (W) for trench,” “square F2 feet from surface +6 above skull, SE post, chips in fill,” “skull + teeth fragments burial of square F,” and “burial 1 square A second level,” as well as “square A below 3rd level stones separated from skull + burial,” “possible copper, square A 14 inches,” “1 sherd pottery found under burial #2 in 1st level,” and “walnut Square A.”

On an unknown date(s), Holland or another colleague removed one human bone (bag labeled “12-19 inches”) from Lee Site #3 in Wise County, Virginia. Holland published research on 10 sites in Lee in 1970 and presumably this material related to DHR site numbers 44LE0010, 44LE0014 or 44LE0017.

On August 2, 1988 (and possibly on other unknown dates), University of Virginia professor of archaeology Jeffrey Hantman excavated DHR site number 44OR1, the Rapidan Mound in Orange County, Virginia. Material believed to be human was removed for future study, in consultation with Monacan Tribal leadership. Included in the material was: “teeth NO36 L1-alluv 8/2/88” and “23 contexts with bone that is potentially human (including charred material).” Hantman's research focused on traditional Monacan lands in Albemarle, Nelson and Orange Counties.

On an unknown date(s) in 1997, University of Virginia archaeology graduate students Martin Gallivan and Michael Klein (with unnamed undergraduate students and University faculty) removed material believed to be human from DHR site number 44GO30, Elk Island on the James River in Goochland County, Virginia. This work was part of a University of Virginia field school 1994-1997. The cultural items removed include two bags: “one human molar F2 surface/disturbance 1997” and “one fragment F2 surface disturbance 1997.” It is believed that these items were inadvertently retained.

Cultural Affiliation

Based on the information available and the results of consultation, cultural affiliation is reasonably identified by the geographical location or acquisition history of the human remains and associated funerary objects described in this notice.

Determinations

The University of Virginia has determined that:

• The human remains described in this notice represent the physical remains of five individuals of Native American ancestry.

• The one lot of objects described in this notice are reasonably believed to have been placed intentionally with or near individual human remains at the time of death or later as part of the death rite or ceremony.

• There is a reasonable connection between human remains and associated funerary objects described in this notice and the Eastern Band of Cherokee Indians and the Monacan Indian Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after December 16, 2024. If competing requests for repatriation are received, the University of Virginia must determine the most appropriate requestor prior to repatriation. Requests for joint repatriation of the human remains and associated funerary objects are considered a single request and not competing requests. The University of Virginia is responsible for sending a copy of this notice to the Indian Tribes and Native Hawaiian organizations identified in this notice.

Authority: Native American Graves Protection and Repatriation Act, 25 U.S.C. 3003, and the implementing regulations, 43 CFR 10.10.

Dated: November 5, 2024.
Melanie O'Brien,
Manager, National NAGPRA Program.

[FR Doc. 2024-26454 Filed 11-13-24; 8:45 am]

BILLING CODE 4312-52-P